DEPARTMENT OF TRANSPORTATION

Federal Transit Administration

[FTA Docket No. FTA 2022-0026]

Agency Information Collection Activity Under OMB Review: Public Transportation Emergency Relief Program

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: Public Transportation Emergency Relief Program.

DATES: Comments must be submitted before October 24, 2022.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Thomas Wilson, Office of Program Management (202) 366-5279 or Thomas.Wilson@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Public Transportation Emergency Relief Program

(OMB Number: 2132-0575)

Background: Since the authorization of the Public Transportation Emergency Relief Program in 2012, Congress has appropriated funds three times for transit agencies affected by disaster.

The first appropriation of funds for the program was in 2013 following Hurricane Sandy, for which the President declared a major disaster for areas of 12 States and the District of Columbia. Under the Disaster Relief Appropriations Act (Pub. L. 113-2), Congress provided $10.9 billion for FTA's Emergency Relief Program for recovery, relief, and resilience efforts in the counties specified in the disaster declaration. Approximately $10.0 billion remained available after implementation of the Balanced Budget and Emergency Deficit Control Act of 2011 (Pub. L. 112-25) and after intergovernmental transfers to other bureaus and offices within DOT. FTA has allocated the full amount in multiple tiers for response, recovery and rebuilding; for locally prioritized resilience projects, and for competitively selected resilience projects.

The second appropriation of funds for the Emergency Relief Program was in 2018 following Hurricanes Harvey, Irma, and Maria, for which the President declared major disasters in areas of Florida, Georgia, Louisiana, Puerto Rico, South Carolina, Texas, and the U.S. Virgin Islands. Under the Bipartisan Budget Act of 2018 (Pub. L. 115-123), Congress provided $330 million for FTA's Emergency Relief Program for transit systems affected by Hurricanes Harvey, Irma, and Maria. On May 31, 2018 FTA allocated $277.5 million for response, recovery, rebuilding, and resilience projects.

The third appropriation of funds for the Emergency Relief Program was in 2019. Under the Additional Supplemental Appropriations for Disaster Relief Act of 2019 (Pub. L. 116-20), Congress appropriated $10.5 million for FTA's Emergency Relief Program for transit systems affected by major declared disasters occurring in calendar year 2018.

On March 13, 2020, FTA announced that expanded eligibility of Federal assistance is available under FTA's Emergency Relief Program to help transit agencies respond to the coronavirus (COVID-19) in states where the Governor has declared an emergency. This includes allowing all transit providers, including those in large urban areas, to use Federal formula funds for emergency-related capital and operating expenses, and raises the cap on the Federal government's share of those expenses.

Respondents: States, local governmental authorities, Indian tribes and other FTA recipients impacted by Hurricane Sandy which affected mid-Atlantic and northeastern states in October 2012; Hurricane Harvey which affected areas of Texas and Louisiana in August 2017; and Hurricanes Irma and Maria which affected the southeastern states and the territories of the Puerto Rico and the U.S. Virgin Islands in September 2017, and by major declared disasters occurring in calendar year 2018.

Estimated Annual Number of Respondents: 26.

Estimated Total Annual Burden: 4,680 hours.

Frequency: Annually.

Nadine Pembleton,
Deputy Associate Administrator, Office of Administration.

[FR Doc. 2022-18278 Filed 8-23-22; 8:45 am]

BILLING CODE 4910-57-P